DEPARTMENT OF ENERGY

Federal Energy Regulatory Commission

Notice of Intent To File for New License

March 12, 2002.

a. Type of Filing: Notice of Intent to File an Application for New License.

b. Project No.: 7758-000.

c. Date Filed: February 27, 2002.

d. Submitted By: City of Holyoke Gas and Electric Department—current licensee.

e. Name of Project: Number 4 Hydroelectric Project.

f. Location: On the Holyoke Canal System of the Connecticut River, in the City of Holyoke, Hampden County, Massachusetts. The project does not occupy federal lands.

g. Filed Pursuant to: Section 15 of the Federal Power Act

h. Licensee Contact: Paul Ducheney, Hydro Superintendent, City of Holyoke Gas and Electric Department, 99 Suffolk Street, Holyoke, MA 01040 (413) 536-9340.

i. FERC Contact: Tom Dean, thomas.dean@ferc.gov, (202) 219-2778.

j. Effective date of current license: March 1, 1957.

k. Expiration date of current license: February 28, 2007.

l. Description of the Project: The project consists of the following existing facilities: (1) Two 76-foot-long, 7-foot-diameter penstocks drawing water from the first level canal of the Holyoke Canal System; (2) a powerhouse containing two generating units with a total installed capacity of 760 kW; (3) two 300-foot-long, 13-foot-wide tailraces discharging water into the second level canal; (4) a 25-foot-long, 4.8 kV transmission line; and (5) other appurtenances.

m. Each application for a license and any competing license applications must be filed with the Commission at least 24 months prior to the expiration of the existing license. All applications for license for this project must be filed by February 28, 2005.

n. Copies of this filing are on file with the Commission and are available for public inspection. This filing may also be viewed on the Web at http://www.ferc.gov using the “RIMS” link, select “Docket#” and follow the instructions (call 202-208-2222 for assistance). A copy is also available for inspection and reproduction by contacting the applicant identified in item h above.

Magalie R. Salas,
Secretary.

[FR Doc. 02-6445 Filed 3-15-02; 8:45 am]

BILLING CODE 6717-01-P